INTERNATIONAL TRADE COMMISSION

[Investigation No. 731-TA-638 (Fourth Review)]

Stainless Steel Wire Rod From India

DETERMINATION

On the basis of the record ¹ developed in the subject five-year review, the United States International Trade Commission (“Commission”) determines, pursuant to the Tariff Act of 1930 (“the Act”), that revocation of the antidumping duty order on stainless steel wire rod from India would be likely to lead to continuation or recurrence of material injury to an industry in the United States within a reasonably foreseeable time.

¹ The record is defined in sec. 207.2(f) of the Commission's Rules of Practice and Procedure (19 CFR 207.2(f)).

BACKGROUND

The Commission, pursuant to section 751(c) of the Act (19 U.S.C. 1675(c)), instituted this review on December 1, 2016 (81 FR 86728) and determined on March 6, 2017 that it would conduct an expedited review (82 FR 16231, April 3, 2017).

The Commission made this determination pursuant to section 751(c) of the Act (19 U.S.C. 1675(c)). It completed and filed its determination in this review on June 6, 2017. The views of the Commission are contained in USITC Publication 4695 (June 2017), entitled Stainless Steel Wire Rod from India: Investigation No. 731-TA-638 (Fourth Review).

By order of the Commission.
Issued: June 6, 2017.
Lisa R. Barton,
Secretary to the Commission.

[FR Doc. 2017-12037 Filed 6-9-17; 8:45 am]

BILLING CODE 7020-02-P